DEPARTMENT OF HEALTH AND HUMAN SERVICES

Administration for Children and Families

Submission for OMB Review; Building Evidence on Employment Strategies (BEES) (OMB #0970-0537)

AGENCY: Office of Planning, Research, and Evaluation, Administration for Children and Families, Department of Health and Human Services.

ACTION: Request for public comments.

SUMMARY: The Administration for Children and Families (ACF), of the U.S. Department of Health and Human Services (HHS), is proposing to extend data collection activity for BEES. We are not proposing any changes to the currently approved materials. Data collected is being used to estimate the effects of the participating programs on employment, earnings, and other key outcomes for the purpose of assessing the effectiveness of the program.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION: Description: The purpose of BEES is to evaluate the effectiveness of a range of programs designed to improve employment and earnings outcomes for individuals with low incomes. More specifically, BEES is primarily evaluating programs that serve adults whose employment prospects have been affected by Substance Use Disorder (SUD) and mental health conditions. This is being accomplished through impact and implementation studies. When possible, a randomized control trial research design is being used for the impact evaluations. This request for an extension is to complete the following data collection activities: baseline, updated contact information, and follow up surveys for the impact studies; an online staff survey; and qualitative interviews with program participants and staff. In addition to collecting these data, the BEES project will continue to maintain consent forms for the collection of administrative data. Data collected is being used to estimate the effects of the participating programs on employment, earnings, and other key outcomes.

Respondents: The respondents in this extension will include individuals who will enroll in BEES and complete the baseline survey during this period. All study participants will be fielded the follow up survey. We will also conduct qualitative interviews with program staff and participants in the participating sites 1-2 times. Lastly, program staff will be asked to complete a web-based survey.

Annual Burden Estimates
Instrument | Number of respondents (total over request period) | Number of responses per respondent (total over request period) | Average burden per response (in hours) | Total burden (in hours) | Annual burden (in hours)
Burden for previously approved, ongoing data collection
Attachment D1-D5. Baseline information form for participants | 3,000 | 1 | 0.25 | 750 | 250
Attachment E. Contact Update Letter and Form | 4,300 | 1 | 0.1 | 429 | 143
Attachment F. Program managers, staff, and partner interview guide—SUD Programs | 80 | 2 | 1.5 | 360 | 120
Attachment G. Program managers, staff, and partner interview guide—Whole Family Approach Programs | 20 | 2 | 1.5 | 45 | 15
Attachment K-1. 12-month Follow-Up Participant Interview | 4300 | 1 | 0.5 | 2149.5 | 717
Attachment L. Program Managers, Staff, and Partners Interview Guide | 200 | 2 | 1.5 | 300 | 99
Attachment M. Participant Case Study Interview Guide | 84 | 1 | 1.5 | 126 | 42
Attachment N. Program Staff Case Study Interview Guide | 84 | 1 | 1 | 84 | 28
Attachment O. Program Staff Survey | 300 | 1 | 0.5 | 150 | 50

Estimated Total Annual Burden Hours: 1,464.

Authority: Section 413 of the Social Security Act as amended by the FY 2017 Consolidated Appropriations Act, 2017 (Pub. L. 115-31).

Mary B. Jones,
ACF/OPRE Certifying Officer.

[FR Doc. 2022-20995 Filed 9-27-22; 8:45 am]

BILLING CODE 4184-09-P